DEPARTMENT OF ENERGY

Federal Energy Regulatory Commission

[Docket No. RP03-135-000]

Williams Gas Pipelines Central, Inc.; Notice of Technical Conference

January 17, 2003.

In the Commission's order issued on December 31, 2002,¹ in the above-captioned docket, the Commission directed that a technical conference be held to address certain issues, as set forth in the Commission's order.

¹ Williams Gas Pipelines Central, Inc., 101 FERC 61,407 (2002).

Take notice that the technical conference will be held on Tuesday, February 11, 2003, at 10 a.m., in a room to be designated at the offices of the Federal Energy Regulatory Commission, 888 First Street, NE., Washington, DC 20426.

All interested parties and Staff are invited to attend.

Magalie R. Salas,
Secretary.

[FR Doc. 03-1619 Filed 1-23-03; 8:45 am]

BILLING CODE 6717-01-P